SECURITIES AND EXCHANGE COMMISSION

[File No. 500-1]

SSE Telecom, Inc., Strategic Alliance Group, Inc., (n/k/a CruiseCam International, Inc.), Stratasec, Inc., Superfly Advertising, Inc. (f/k/a Morlex, Inc.), SVI Media, Inc., Symons International Group, Inc., Synergy Renewable Resources, Inc., and Syntech International, Inc. (n/k/a Avalon Technology Group, Inc.); Order of Suspension of Trading

June 23, 2010.

It appears to the Securities and Exchange Commission that there is a lack of current and accurate information concerning the securities of SSE Telecom, Inc. because it has not filed any periodic reports since the period ended December 30, 2000.

It appears to the Securities and Exchange Commission that there is a lack of current and accurate information concerning the securities of Strategic Alliance Group, Inc. (n/k/a CruiseCam International, Inc.) because it has not filed any periodic reports since the period ended December 31, 2005.

It appears to the Securities and Exchange Commission that there is a lack of current and accurate information concerning the securities of Stratasec, Inc. because it has not filed any periodic reports since the period ended March 31, 2003.

It appears to the Securities and Exchange Commission that there is a lack of current and accurate information concerning the securities of Superfly Advertising, Inc. (f/k/a Morlex, Inc.) because it has not filed any periodic reports since the period ended December 31, 2007.

It appears to the Securities and Exchange Commission that there is a lack of current and accurate information concerning the securities of SVI Media, Inc. because it has not filed any periodic reports since the period ended September 30, 2007.

It appears to the Securities and Exchange Commission that there is a lack of current and accurate information concerning the securities of Symons International Group, Inc. because it has not filed any periodic reports since the period ended March 31, 2003.

It appears to the Securities and Exchange Commission that there is a lack of current and accurate information concerning the securities of Synergy Renewable Resources, Inc. because it has not filed any periodic reports since the period ended December 31, 1996.

It appears to the Securities and Exchange Commission that there is a lack of current and accurate information concerning the securities of Syntech International, Inc. (n/k/a Avalon Technology Group, Inc.) because it has not filed any periodic reports since the period ended September 30, 1994.

The Commission is of the opinion that the public interest and the protection of investors require a suspension of trading in the securities of the above-listed companies.

Therefore, it is ordered, pursuant to section 12(k) of the Securities Exchange Act of 1934, that trading in the securities of the above-listed companies is suspended for the period from 9:30 a.m. e.d.t. on June 23, 2010, through 11:59 p.m. e.d.t. on July 7, 2010.

By the Commission.
Jill M. Peterson,
Assistant Secretary.

[FR Doc. 2010-15585 Filed 6-23-10; 4:15 pm]

BILLING CODE 8011-01-P